SURFACE TRANSPORTATION BOARD

[Docket No. EP 670 (Sub-No. 2)]

Notice of Rail Energy Transportation Advisory Committee Vacancies

AGENCY: Surface Transportation Board.

ACTION: Notice of vacancies on Federal advisory committee and solicitation of nominations.

SUMMARY: The Surface Transportation Board (Board) hereby gives notice of five vacancies on its Rail Energy Transportation Advisory Committee (RETAC) for three representatives from electric utilities; one representative from biofuel feedstock growers or providers and biofuel refiners, processors, and distributors; and one representative from the petroleum shipping industry. The Board is soliciting nominations from the public for candidates to fill these vacancies.

DATES: Nominations for candidates for membership on RETAC are due September 2, 2024.

ADDRESSES: Nominations may be submitted either via the Board's e-filing format or in paper format. Any person using e-filing should attach a document and otherwise comply with the instructions at the E-FILING link on the Board's website, at http://www.stb.gov. Any person submitting a filing in paper format should send the original and 10 copies to: Surface Transportation Board, Attn: Docket No. EP 670 (Sub-No. 2), 395 E Street SW, Washington, DC 20423-0001.

FOR FURTHER INFORMATION CONTACT: Elizabeth McGrath at 202-748-4566. If you require an accommodation under the Americans with Disabilities Act, please call (202) 245-0245.

SUPPLEMENTARY INFORMATION: The Board exercises broad authority over transportation by rail carriers, including rates and services (49 U.S.C. 10701-10747, 11101-11124), construction, acquisition, operation, and abandonment of railroad lines (49 U.S.C. 10901-10907), and consolidation, merger, or common control arrangements between railroads (49 U.S.C. 10902, 11323-11327).

The Board established RETAC in 2007 as a federal advisory committee consisting of a balanced cross-section of energy and rail industry stakeholders to provide independent, candid policy advice to the Board and to foster open, effective communication among the affected interests on issues such as rail performance, capacity constraints, infrastructure planning and development, and effective coordination among suppliers, railroads, and users of energy resources. RETAC operates under the Federal Advisory Committee Act (5 U.S.C. app. 2, sections 1-16).

RETAC's membership is balanced and representative of interested and affected parties, consisting of not less than: five representatives from the Class I railroads; three representatives from Class II and III railroads; three representatives from coal producers; five representatives from electric utilities (including at least one rural electric cooperative and one state- or municipally-owned utility); four representatives from biofuel feedstock growers or providers and biofuel refiners, processors, and distributors; two representatives from private car owners, car lessors, or car manufacturers; one representative from the petroleum shipping industry; two representatives from renewable energy sources; and one representative from a labor organization. The Committee may also include up to two at large members with relevant experience but not necessarily affiliated with one of the aforementioned industries or sectors.

Members are selected by the Chair of the Board with the concurrence of a majority of the Board. The Chair may invite representatives from the U.S. Departments of Agriculture, Energy, and Transportation and the Federal Energy Regulatory Commission to serve on RETAC in advisory capacities as ex officio (non-voting) members. The members of the Board serve as ex officio members of the Committee.

RETAC meets at least twice per year. Meetings are typically held at the Board's headquarters in Washington, DC, but may be held virtually or in other locations. Members of RETAC serve without compensation and without reimbursement of travel expenses. Further information about RETAC is available on the RETAC page of the Board's website at https://www.stb.gov/resources/stakeholder-committees/retac/.

The Board is soliciting nominations from the public for candidates to fill five vacancies: three representatives from electric utilities; one representative from biofuel feedstock growers or providers and biofuel refiners, processors, and distributors; and one representative from the petroleum shipping industry. All the vacancies are for three-year terms ending September 30, 2027. According to revised guidance issued by the Office of Management and Budget, it is permissible for federally registered lobbyists to serve on advisory committees, such as RETAC, as long as they do so in a representative capacity, rather than an individual capacity. See Revised Guidance on Appointment of Lobbyists to Fed. Advisory Comms., Bds., & Comm'ns, 79 FR 47482 (Aug. 13, 2014). Members of RETAC are appointed to serve in a representative capacity.

Nominations for candidates to fill the vacancies should be submitted in letter form and should include: (1) the name, position, and business contact information of the candidate to include email address and phone number; (2) the interest the candidate will represent; (3) a summary of the candidate's experience and qualifications for the position; (4) a representation that the candidate is willing to serve as a member of RETAC; and, (5) a statement that the candidate agrees to serve in a representative capacity. Candidates may nominate themselves. The Chair is committed to having a committee reflecting diverse communities and viewpoints and strongly encourages the nomination of candidates from diverse backgrounds. Nominations for candidates for membership on RETAC should be filed with the Board by September 2, 2024. Please note that submissions will be posted publicly on the Board's website under Docket No. EP 670 (Sub-No. 2).

Authority: 49 U.S.C. 1321; 49 U.S.C. 11101; 49 U.S.C. 11121.

Decided: July 29, 2024.
By the Board, Scott M. Zimmerman, Acting Director, Office of Proceedings.
Regena Smith-Bernard,
Clearance Clerk.

[FR Doc. 2024-17124 Filed 8-1-24; 8:45 am]

BILLING CODE 4915-01-P